SMALL BUSINESS ADMINISTRATION

[Declaration of Disaster #3345]

State of West Virginia; (Amendment #7)

In accordance with notices received from the Federal Emergency Management Agency, dated July 26 and July 31, 2001, the above numbered declaration is hereby amended to 1) include Greenbrier and Nicholas Counties in the State of West Virginia as disaster areas, 2) reopen the incident period for this disaster as beginning May 15, 2001 and continuing, and 3) extend the deadline for filing applications for physical damages as a result of this disaster to September 8, 2001.

In addition, applications for economic injury loans from small businesses located in the following contiguous counties may be filed until the specified date at the previously designated location: Pocahontas and Webster Counties in the State of West Virginia, and Alleghany and Bath Counties in the Commonwealth of Virginia. All other contiguous counties have been previously declared.

All other information remains the same, i.e., the deadline for filing applications for loans for economic injury is March 4, 2002.

(Catalog of Federal Domestic Assistance Program Nos. 59002 and 59008.)

Dated: August 2, 2001.
Herbert L. Mitchell,
Associate Administrator for Disaster Assistance.

[FR Doc. 01-20322 Filed 8-13-01; 8:45 am]

BILLING CODE 8025-01-P